DEPARTMENT OF TRANSPORTATION

Federal Transit Administration

Environmental Impact Statement for West Lake Corridor Project in Lake County, Indiana and Cook County, Illinois

AGENCY: Federal Transit Administration, U.S. Department of Transportation.

ACTION: Notice of Intent to Prepare an Environmental Impact Statement.

SUMMARY: The Federal Transit Administration (FTA), as the Federal Lead Agency, and the Northern Indiana Commuter Transportation District (NICTD), as the Local Project Sponsor, intend to prepare an Environmental Impact Statement (EIS) for the West Lake Corridor Project (Project) in Lake County, Indiana and Cook County, Illinois. The Project is an approximately 9-mile proposed southern branch extension of NICTD's existing South Shore Line (SSL) between Dyer and Hammond, Indiana. Additionally, the Project would operate on about 15 miles of existing SSL and Metra Electric District's (MED) line to the Millennium Station in downtown Chicago. Alternatives to be considered include a No Build, Commuter Rail, and several design options for the latter in terms of route alignment, station locations, maintenance facility sites, and vehicle mode. More information can be found on the Project's Web site at: http://www.nictdwestlake.com.

The EIS will be prepared in accordance with regulations implementing the National Environmental Policy Act (NEPA), as well as provisions of Moving Ahead for Progress in the 21st Century Act (MAP-21). The purpose of this notice is to alert interested parties regarding FTA's plan to prepare the EIS; provide information on the nature of the proposed Project; solicit public and agency input regarding the scope of the EIS including the project's purpose and need, alternatives to be considered, and the impacts to be evaluated; and announce that public and agency scoping meetings will be conducted. This input will be used to assist decision makers in determining a locally preferred alternative (LPA) and preparing a Draft Environmental Impact Statement (DEIS). If the No Build alternative is eliminated, an LPA will be selected and the project sponsors will request permission from FTA to enter into Project Development per requirements of 49 U.S.C. 5309. The Final Environmental Impact Statement (FEIS) and Record of Decision (ROD) would be issued after the project has entered Project Development. FTA intends to issue a single FEIS and ROD document pursuant to MAP-21 Section 1319 requirements, unless FTA determines statutory criteria or practicability considerations preclude issuance of the combined document pursuant to Section 1319.

Dates, Times and Locations: A public scoping meeting to present information and accept comments on the study will be held on Tuesday, October 28, 2014 from 6:30 p.m. to 8:30 p.m. in The Center for Visual and Performing Arts, 1040 Ridge Road, Munster, IN 46321.

Comparably, an interagency scoping meeting for federal, state, regional and local resource and regulatory agencies will be held on Tuesday, October 28, 2014 from 2:00 p.m. to 4:00 p.m. in The Center for Visual and Performing Arts, 1040 Ridge Road, Munster, IN 46321. Appropriate agencies that may have an interest in this project, or have a potential interest in becoming a participating agency, will be notified of the meeting through separate direct correspondence.

The building used for the meetings is accessible to persons with disabilities. Any person who requires special assistance, such as a language interpreter, should contact the NICTD West Lake Corridor Project at 219-250-2920 at least 48 hours before the meeting.

Comment Due Date: Written comments on the purpose and need for the proposed improvements, and the scope of alternatives and impacts to be considered should be sent to NICTD West Lake Corridor Project via any of the methods outlined in the Addresses section below, on or before Tuesday, November 11, 2014.

ADDRESSES: Written comments on the scope of the EIS should be sent to: NICTD West Lake Corridor Project, 33 East U.S. Highway 12, Chesterton, IN 46304; via email at project.email@nictdwestlake.com; or on the project's Web site at http://www.nictdwestlake.com/comment-online.html.

Additional Information: Contact Mark Assam, Environmental Protection Specialist, Federal Transit Administration, Region 5, 200 W. Adams Street, Suite 320, Chicago, IL 60606, 312-353-4070, mark.assam@dot.gov.

SUPPLEMENTARY INFORMATION:

I. Project Background

The concept of providing more direct access to transit in central, southern, and western Lake County has been considered for more than 25 years in regional transportation studies. As early as 1989, the Northwestern Indiana Regional Planning Commission (NIRPC) released a study that identified a South Shore extension as a potentially viable means to expand mass transit in the region. Since that time, multiple evaluations have occurred. In 2011, NICTD's West Lake Corridor Study concluded that a rail-based service between the Munster/Dyer area and Metra's Millennium Station in Downtown Chicago would best meet intraregional public transportation needs of the study area. In June 2014, NICTD released its 20-Year Strategic Business Plan, which highlighted the importance of the West Lake Corridor Project.

II. Scoping

The FTA and NICTD will undertake a scoping process for the Project that will allow the public and interested agencies to comment on the scope of the environmental review process. NEPA scoping has specific objectives to identify the significant environmental issues associated with alternatives to be examined in detail, while also limiting consideration of issues that are not truly significant. As such, the FTA and NICTD invite all interested individuals and organizations, public agencies, and Native American tribes to comment on the scope of the EIS, including the project's purpose and need, alternatives to be studied, impacts to be evaluated, and evaluation methods to be used.

III. Purpose and Need for Project

NICTD's existing SSL provides a vital transportation link that connects Northwest Indiana to Chicago and Cook County, Illinois. NICTD is proposing the Project as a branch extension of the SSL route to reach high-growth areas in Lake County, Indiana. The Project would expand NICTD's service coverage between Northwest Indiana and the Chicago region, improve mobility and accessibility, and stimulate local job creation and economic development opportunities for Lake County. Specifically, the Project is intended to:

• Serve high-growth areas in central, southern, and western Lake County, Indiana

• Conveniently connect more Northwest Indiana residents to downtown Chicago jobs and major activity centers

• Establish a solid modal alternative between the two metropolitan sub-regions other than driving

• Lower commuting travel times and costs

• Increase NICTD system ridership

• Promote economic development opportunities

• Create local jobs in Northwest Indiana

• Attract and retain families and younger residents

• Provide a valued transportation asset for use by all Northwest Indiana residents

IV. Alternatives

The EIS for the Project will evaluate a No Build Alternative and a Commuter Rail Alternative. The two alternatives are described as follows:

No Build Alternative: The No Build Alternative is defined as the existing transportation system, plus any committed transportation improvements included in NIRPC's 2040 Comprehensive Regional Plan. It would not include a major transit investment in the West Lake Corridor. As such, the No Build Alternative serves as the NEPA baseline against which the environmental effects of the proposed project are measured.

Commuter Rail Alternative: The Commuter Rail Alternative would include an approximately 9-mile southern extension of NICTD's existing SSL between Dyer and Hammond, Indiana. The project would involve new track improvements along the existing CSX Transportation and former Monon railroad corridors, with a flyover to the existing SSL in Hammond. Four potential stations would be included at Munster/Dyer Main Street, Munster Fisher/45th Streets, South Hammond, and Downtown Hammond. A maintenance facility would also be needed to store and maintain the vehicles. Trains on the new Project branch line would connect with the existing SSL and ultimately the MED line to the north, providing new transit service between Dyer and Metra's Millennium Station in Downtown Chicago, and as such, core capacity improvements to the existing MED line and Millennium Station may be required to accommodate the Project.

Two alignment design options are also being considered for the Project, including a possible extension to St. John, Indiana on the southern end, and another along the Indiana Harbor Belt Kensington Branch through Calumet City, Burnham, and Chicago, Illinois on the northern end. Design options for four other possible station locations and three potential maintenance facility sites are also being studied. Vehicle mode options include Electric Heavy Rail, Diesel Heavy Rail, and Combined Electric/Diesel Rail. The Project route alignment, station locations, maintenance facility sites, and vehicle mode will be further refined during the environmental review process, working in close consultation with the public, agencies, and key stakeholders.

V. Probable Effects/Potential Impacts for Analysis

The FTA and NICTD will evaluate each alternative for significant social, economic, and environmental impacts. Anticipated primary resource topics include: Transportation, land use, socioeconomics and economic development, parklands and trails, neighborhoods and community facilities, environmental justice, noise and vibration, hazardous materials, ecosystems, water resources, and short-term construction impacts. The EIS will also address displacements and relocations, historic and archaeological resources, visual quality, vegetation, farmlands, air quality, and energy. The potential impacts to these resources will be evaluated both for the short-term construction period and long-term operation of each alternative. In addition, indirect and cumulative effects of the proposed project will be identified. Measures to avoid or minimize and mitigate project impacts will be developed, as needed.

VI. FTA Procedures

The FTA and NICTD will comply with applicable federal environmental laws, regulations, and executive orders during the environmental review process. These requirements include, but are not limited to, the regulations of the Council on Environmental Quality implementing NEPA (40 CFR Parts 1500-1508) and FTA's Regulations on Environmental Impact and Related Procedures (23 CFR Part 771). The FTA and NICTD will also comply with the requirements of the U.S. Environmental Protection Agency's air quality conformity regulations (40 CFR part 93), Clean Air Act Amendments of 1990, Section 404 of the Clean Water Act, Section 106 of the National Historic Preservation Act, Section 7 of the Endangered Species Act, Section 4(f) of the U.S. Department of Transportation Act, Executive Order 11988 on Floodplain Management, Executive Order 11990 on Wetlands, Executive Order 12898 on Environmental Justice, and DOT Order 5610.2(a) on Environmental Justice.

Under a Commuter Rail scenario, NICTD intends to seek federal funding for the Project under FTA's New Starts program. The New Starts program involves a multi-year, multi-step process, including completion of the environmental review procedures, which project sponsors must traverse before funding is approved. The steps in the New Starts process and basic requirements of the funding program can be found on FTA's Web site at www.fta.dot.gov.

VII. Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of NEPA documents. Accordingly, unless a specific request for a complete hardcopy of the NEPA document is received before it is printed, FTA and its grant applicants will distribute only electronic versions of the NEPA document. A complete copy of the environmental document will be available for review at the grant applicant's offices; an electronic copy of the complete environmental document will be available on the grant applicant's Project Web site at www.nictdwestlake.com.

Marisol R. Simón,
Regional Administrator.

[FR Doc. 2014-23248 Filed 9-29-14; 8:45 am]

BILLING CODE P